DEPARTMENT OF ENERGY

Federal Energy Regulatory Commission

[Project No. 2457-041]

Public Service Company of New Hampshire: Notice of Application Accepted for Filing, Soliciting Motions To Intervene and Protests, Ready for Environmental Analysis, and Soliciting Comments, Recommendations, Preliminary Terms and Conditions, and Preliminary Prescriptions

Take notice that the following hydroelectric application has been filed with the Commission and is available for public inspection.

a. Type of Application: New Major License.

b. Project No.: 2457-041.

c. Date filed: December 18, 2015.

d. Applicant: Public Service Company of New Hampshire (PSNH).

e. Name of Project: Eastman Falls Hydroelectric Project (Eastman Falls Project).

f. Location: The existing project is located on the Pemigewasset River in Merrimack and Belknap Counties, New Hampshire. The project boundary includes approximately 476 acres of federal land.

g. Filed Pursuant to: Federal Power Act, 16 U.S.C. 791(a)-825(r).

h. Applicant Contact: Curtis R. Mooney, Project Manager, Public Service Company of New Hampshire, 780 North Commercial Street, P.O. Box 330, Manchester, NH 03105-0330; Telephone: (603) 744-8855 or curtis.mooney@eversource.com

i. FERC Contact: Steve Kartalia, (202) 502-6131 or stephen.kartalia@ferc.gov.

j. Deadline for filing motions to intervene, protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2457-041.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Project Description: The Eastman Falls Project has a total installed capacity of 6.4-megawatts (MW). The project's average annual generation is 27,871 megawatt-hours. The power generated by the project is sold to PSNH's electrical distribution customers.

The dam for the Eastman Falls Project is located approximately 1.5 miles downstream of the U.S. Army Corps of Engineers' (Corps) Franklin Falls Flood Control Dam (Franklin Falls Dam). While the project boundary for the Eastman Falls Project extends through and upstream of Franklin Falls Dam, it does not encompass Franklin Falls Dam or any Corps facilities.

The existing project consists of: (1) A 341-foot-long, 37-foot-high concrete gravity dam that includes: (i) A 341-foot-wide spillway with a crest elevation of 301 feet above mean sea level (msl) (ii) 6-foot-high steel flashboards with a crest elevation of 307 feet msl; and (iii) a concrete waste gate with a 16-foot-high, 30-foot-wide steel slide gate; (2) a 582-acre impoundment with a normal maximum pool elevation of 307 feet msl; (3) a 342-foot-long, 8-foot-deep floating louver array; (4) generating facility No. 1 that includes: (i) A 12.5-foot-high, 15-foot-wide headgate structure with a 23.75-foot-high, 17-foot-wide trashrack with 3.5-inch clear-bar spacing; (ii) a 12.5-foot-high, 12.5-foot-wide, 21-foot-long concrete penstock; (iii) a 40-foot-high, 20-foot-wide stop log slot; (iv) a 29-foot-long, 29-foot-wide, 34-foot-high concrete and masonry powerhouse containing a single 1.8-MW turbine-generator unit; and (v) a 23-foot-wide, 14.5-foot-high, 60-foot-long draft tube; (5) generating facility No. 2 facility that includes: (i) An intake structure with a 20-foot-high, 21-foot-wide headgate with two 12.3-foot-wide, 9.3-foot-high trashracks with 3.5-inch clear-bar spacing; (ii) a 20.8-foot-high, 22.4-foot-wide stop log slot; (iii) an 88-foot-long, 78-foot-wide, 56-foot-high concrete and masonry powerhouse containing a single 4.6 MW turbine-generator unit; and (iv) a 23-foot-wide, 14.5-foot-high, 60-foot-long draft tube; (6) two 245-foot-long, 2.4-kilovolt (kV) generator leads that connect the turbine-generator in generating facility No. 1 to a generator bus in generating facility No. 2; (7) four 110-foot-long, 2.4-kV generator leads that connect the turbine-generator in generating facility No. 2 to a generator bus in generating facility No. 2; (8) a 100-foot-long, 2.4-kV transmission line that connects the generator bus in generating facility No.2 to the regional grid; and (9) appurtenant facilities.

The Eastman Falls Project operates in a run-of-river mode. The existing license (Article 401) requires that the project release a continuous minimum flow of 410 cubic feet per second, or inflow (whichever is less). PSNH proposes to continue run-of-river operation and to eliminate the requirement to release a minimum flow.

m. A copy of the application is available for review at the Commission in the Public Reference Room or may be viewed on the Commission's Web site at http://www.ferc.gov using the “eLibrary” link. Enter the docket number excluding the last three digits in the docket number field to access the document. For assistance, contact FERC Online Support at FERCOnlineSupport. A copy of the application is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary prescriptions | June 2016.
Commission issues Environmental Assessment | October 2016.
Comments on Environmental Assessment | November 2016.
Modified terms and conditions | December 2016.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: April 26, 2016.
Kimberly D. Bose,
Secretary.

[FR Doc. 2016-10246 Filed 5-2-16; 8:45 am]

BILLING CODE 6717-01-P